DEPARTMENT OF ENERGY

Federal Energy Regulatory Commission

[Docket Nos. ER24-529-000; ER24-96-000; ER24-96-003; ER19-13-000; ER19-1816-000; ER20-2265-000 (consolidated); ER25-1721-000]

Pacific Gas and Electric Company; Notice of Offer of Settlement

On March 21, 2025, Pacific Gas and Electric Company (PG&E) filed an Offer of Settlement and Stipulation (Settlement) in Docket Nos. ER24-96-000 and ER24-96-003; and ER19-13-000, et al. By its terms, the Settlement resolves (1) all issues set for hearing and settlement judge procedures in Docket No. ER24-96-000, and (2) certain wildfire cost recovery issues raised in protests in Docket No. ER19-13-000, et al. and Docket No. ER24-529-000. The Settlement was assigned a new docket number of ER25-1721-000. Notice of the Settlement filed in Docket Nos. ER19-13-000 and ER25-1721-000 was published in the Federal Register, 90 FR 14131 (Mar. 28, 2025). Take notice that the Settlement also relates to specific wildfire cost recovery issues raised in Docket No. ER24-529-000. Comments on the Settlement, as it pertains to wildfire cost recovery issues raised in Docket No. ER24-529-000, are due within seven days of the date of this notice.

Dated: May 14, 2025.
Debbie-Anne A. Reese,
Secretary.

[FR Doc. 2025-08958 Filed 5-19-25; 8:45 am]

BILLING CODE 6717-01-P